DEPARTMENT OF AGRICULTURE

Foreign Agricultural Service

Trade Adjustment Assistance for Farmers

AGENCY: Foreign Agricultural Service, USDA.

ACTION: Notice.

The Administrator, Foreign Agricultural Service (FAS), today accepted a petition, and began a review of a petition, for trade adjustment assistance by the Catfish Farmers of America on behalf of U.S. farm-raised catfish producers. The Administrator will determine within 40 days whether or not increasing imports of catfish contributed importantly to a greater than 15 percent decrease in the national average price of catfish compared to the average of the 3 preceding marketing years. If a determination is affirmative, U.S. producers who produce and market farm-raised catfish will be eligible to apply to the Farm Service Agency for technical assistance at no cost and cash benefits.

FOR FURTHER INFORMATION CONTACT: Trade Adjustment Assistance Staff, FAS, USDA, at (202) 720-0638, or by e-mail at: tradeadjustment@fas.usda.gov. Additional program information can be obtained at the Web site for the Trade Adjustment Assistance for Farmers program. The URL is http://www.fas.usda.gov/itp/taa.

Dated: April 27, 2010.
John D. Brewer,
Administrator, Foreign Agricultural Service.

[FR Doc. 2010-10267 Filed 4-30-10; 8:45 am]

BILLING CODE 3410-10-P